ENVIRONMENTAL PROTECTION AGENCY

[ER-FRL-9033-8]

Environmental Impact Statements; Notice of Availability

Responsible Agency: Office of Federal Activities, General Information (202) 564-7146 or http://www.epa.gov/nepa.

Weekly receipt of Environmental Impact Statements (EISs) filed 06/12/2017 through 06/16/2017 pursuant to 40 CFR 1506.9.

Notice

Section 309(a) of the Clean Air Act requires that EPA make public its comments on EISs issued by other Federal agencies. EPA's comment letters on EISs are available at: http://www.epa.gov/compliance/nepa/eisdata.html.

EIS No. 20170104, Final, USFS, OR, Ten Cent Community Wildfire Protection Project, Review Period Ends: 08/07/2017, Contact: Andrew Stinchfield 541-427-5397.

EIS No. 20170105, Final, NOAA, OR, Programmatic—Portland Harbor Restoration Plan, Review Period Ends: 07/24/2017, Contact: Megan Callahan Grant 503-231-2213.

EIS No. 20170106, Draft, NMFS, OR, Analyze Impacts of NOAA's National Marine Fisheries Service joining as a signatory to a new U.S. v. Oregon Management Agreement for the Years 2018-2027, Comment Period Ends: 08/07/2017, Contact: Jeromy Jording 360-753-9576.

EIS No. 20170107, Final, USFS, CA, Horse Creek Community Protection and Forest Restoration Project, Review Period Ends: 08/07/2017, Contact: Lisa Bousfield 530-493-1766.

EIS No. 20170108, Draft Supplement, USAF, AK, U.S. Air Force F-35A Operational Beddown—Pacific, Comment Period Ends: 08/07/2017, Contact: Hamid Kamalpour 210 925 2738.

EIS No. 20170109, Final, BLM, AZ, Sonoran Desert National Monument Target Shooting Proposed Resource Management Plan Amendment, Review Period Ends: 07/24/2017, Contact: Wayne Monger 623-580-5683.

EIS No. 20170110, Final, USN, RI, Disposal and Reuse of Surplus Property at Naval Station Newport, Review Period Ends: 07/24/2017, Contact: James Anderson 843-963-4991.

Dated: June 20, 2017.
Dawn Roberts,
Management Analyst, NEPA Compliance Division, Office of Federal Activities.

[FR Doc. 2017-13187 Filed 6-22-17; 8:45 am]

BILLING CODE 6560-50-P